INTERNATIONAL TRADE COMMISSION

[Investigations Nos. 731-TA-888-890 (Final)]

Stainless Steel Angle From Japan, Korea, and Spain

Determinations

On the basis of the record ¹ developed in the subject investigations, the United States International Trade Commission determines, pursuant to section 735(b) of the Tariff Act of 1930 (19 U.S.C. 1673d(b)) (the Act), that an industry in the United States is materially injured by reason of imports from Japan, Korea, and Spain of stainless steel angle, provided for in subheading 7222.40.30 of the Harmonized Tariff Schedule of the United States, that have been found by the Department of Commerce to be sold in the United States at less than fair value (LTFV).

¹ The record is defined in sec. 207.2(f) of the Commission's Rules of Practice and Procedure (19 CFR 207.2(f)).

Background

The Commission instituted these investigations effective August 18, 2000, following receipt of a petition filed with the Commission and Commerce by Slater Steels Corp., Specialty Alloys Division, Fort Wayne, IN, and the United Steelworkers of America, AFL-CIO/CLC, Pittsburgh, PA. The final phase of the investigations was scheduled by the Commission following notification of preliminary determinations by Commerce that imports of stainless steel angle from Japan, Korea, and Spain were being sold at LTFV within the meaning of section 733(b) of the Act (19 U.S.C. 1673b(b)). Notice of the scheduling of the Commission's investigations and of a public hearing to be held in connection therewith was given by posting copies of the notice in the Office of the Secretary, U.S. International Trade Commission, Washington, DC, and by publishing the notice in the Federal Register of January 26, 2001 (66 FR 7942). The hearing was held in Washington, DC, on March 27, 2001, and all persons who requested the opportunity were permitted to appear in person or by counsel.

The Commission transmitted its determination in these investigations to the Secretary of Commerce on May 11, 2001. The views of the Commission are contained in USITC Publication 3421 (May 2001), entitled Stainless Steel Angle from Japan, Korea, and Spain: Investigations Nos. 731-TA-888-890 (Final).

Issued: May 14, 2001.
By order of the Commission.
Donna R. Koehnke,
Secretary.

[FR Doc. 01-12497 Filed 5-17-01; 8:45 am]

BILLING CODE 7020-02-P